DEPARTMENT OF HOMELAND SECURITY

Coast Guard

33 CFR Parts 140, 141, 142, 143, 144, 145, 146, and 147

46 CFR Parts 10, 11, 12, 13, 14, and 15

[Docket No. USCG-2013-0175]

RIN 1625-AC10

Training of Personnel and Manning on Mobile Offshore Units and Offshore Supply Vessels Engaged in U.S. Outer Continental Shelf Activities

AGENCY: Coast Guard, DHS.

ACTION: Advance notice of proposed rulemaking.

SUMMARY: The Coast Guard is considering expanding its maritime safety training requirements to cover all persons other than crew working on offshore supply vessels (OSVs) and mobile offshore units (MOUs) engaged in activities on the U.S. Outer Continental Shelf (OCS), regardless of flag. This is necessary to enhance personnel preparedness for responding to emergencies such as fire, personal injury, and abandon ship situations in hazardous environments. We seek comments on the following topics: the sufficiency of existing maritime safety training and the value of additional maritime safety training for maritime crew and persons other than crew on OSVs and MOUs; an MOU's safety organizational structure (defining levels of authority and lines of communication); the professional education and service requirements for industrial officers on MOUs; the sufficiency of manning regulations on MOUs and OSVs; and any available economic data on current labor market trends and conditions as well as the current costs, benefits, and effectiveness of mandated maritime safety training courses and programs for maritime crew and persons other than crew.

DATES: Comments and related material must either be submitted to our online docket via http://www.regulations.gov on or before July 14, 2014 or reach the Docket Management Facility by that date.

ADDRESSES: You may submit comments identified by docket number USCG-2013-0175 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this advance notice of proposed rulemaking, call or email Mr. Gerald Miante, Maritime Personnel Qualifications Division (CG-OES-1), U.S. Coast Guard, 2703 Martin Luther King Jr. Avenue SE., Washington, DC 20593; telephone 202-372-1407, or email gerald.p.miante@uscg.mil. If you have questions on viewing or submitting material to the docket, call Ms. Cheryl Collins, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

A. General

B. Outer Continental Shelf Lands Act

C. Coast Guard's Relationship to the Bureau of Safety and Environmental Enforcement

D. The BSEE's Safety Regulations

E. Offshore Supply Vessels

F. Mobile Offshore Drilling Units

G. Manning

IV. Advance Notice of Proposed Rulemaking Discussion

A. Maritime Safety Training for Persons Other Than Crew on Offshore upply Vessels and Mobile Offshore Units

B. Safety Organizational Structure

C. Officers on Mobile Offshore Drilling Units

D. Manning

V. Information Requested

A. Maritime Safety Training for Persons Other Than Crew on Offshore Supply Vessels and Mobile Offshore Units

B. Safety Organizational Structure

C. Officers on Mobile Offshore Drilling Units

D. Manning

E. Economic Data

F. Regulatory Coordination With Other Federal Agencies

I. Public Participation and Request for Comments

We encourage you to respond to this advance notice of proposed rulemaking (ANPRM) by submitting comments and related materials. All comments received will be posted, without change, to http://www.regulations.gov and will include any personal information you have provided.

A. Submitting Comments

If you submit a comment, please include the docket number for this rulemaking (USCG-2013-0175), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2013-0175” in the “Search” box. Click on “Submit a Comment” in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

B. Viewing Comments and Documents

To view comments, as well as documents mentioned in this preamble as being available in the docket, go to http://www.regulations.gov “USCG-2013-0175” and click “Search.” Click the “Open Docket Folder” in the “Actions” column. If you do not have access to the Internet, you may view the docket by visiting the Docket Management Facility in Room W12-140 on the ground floor of the U.S. Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by searching for the name of the individual who submitted the comment (or who signed the comment, if the comment was submitted on behalf of an association, business, labor union, etc.). You may review a Privacy Act notice regarding our public dockets in the January 17, 2008, issue of the Federal Register (73 FR 3316).

D. Public Meeting

We do not now plan to hold a public meeting, but you may submit a request for one to the docket using one of the methods specified under ADDRESSES. In your request, explain why you believe a public meeting would be beneficial. If we determine that a public meeting would aid this rulemaking, we will hold one at a time and place announced by a later notice in the Federal Register.

II. Abbreviations

ANPRM Advance notice of proposed rulemaking

BCO Ballast control operator

BS Barge supervisor

BT Basic training

CFR Code of Federal Regulations

FLOATEL/ASV Floating hotel/accommodation service vessel

IMO International Maritime Organization

MOA Memorandum of Agreement

MODU Mobile offshore drilling unit

MOU Mobile offshore unit

OCS U.S. Outer Continental Shelf

OCSLA Outer Continental Shelf Lands Act

OIM Offshore installation manager

OSV Offshore supply vessel

SEMS Safety and Environmental Management System

PIC Person in charge

STCW International Convention on Standards of Training, Certification and Watchkeeping for Seafarers, 1978, as amended

U.S.C. United States Code

III. Background

A. General

The offshore mineral and oil industry on the U.S. Outer Continental Shelf (OCS) expanded significantly in the last decade. With this expansion, technological advancements moved operations further offshore and into deeper water. Consequently, this extension of operations limits the availability of emergency resources in both response time and amount of assistance available. Today, more people and companies are involved in exploration, drilling, production, anchor handling, diving, oil spill response operations, and other such activities than ever before.

Recent incidents, including the explosion on, and subsequent sinking of the mobile offshore drilling unit (MODU) ¹ DEEPWATER HORIZON, highlight the need for maritime crew and persons other than crew working on the OCS to better understand decision-making authority and proper response actions in emergency situations,² particularly since a large number of the maritime crew and persons other than crew work in hazardous conditions. Maritime crew are mariners who are required by an Officer in Charge, Marine Inspection to be listed on a vessel's Certificate of Inspection (46 CFR 15.501) or on another administration's safe manning document. The “maritime crew” are the Coast Guard-credentialed mariners who operate the vessel in accordance with the Certificate of Inspection (Safe Manning Document), e.g., master, mate, engineer, deckhand, and able seaman. The maritime crew may also include the offshore installation manager, barge supervisor, and ballast control operator. Persons other than crew comprise all other personnel who either ride on the vessel or work on the vessel, (e.g., offshore worker, commercial diver, anchor handling personnel, remotely operated vehicle (ROV) operator, oil-spill response worker, industrial personnel who work on rigs, occasional specialty worker, company personnel, and visitors).

¹ A MODU is defined in 46 CFR 10.107(b).

² See an excerpt from the U.S. Coast Guard's Report of Investigation into the Circumstances Surrounding the Explosion, Fire, Sinking and Loss of Eleven Crew Members Aboard the MODU DEEPWATER HORIZON in the GULF OF MEXICO, which found “Certain crew actions during the event itself indicated that Transocean's emergency drills did not properly prepare the crew for a simultaneous well control, fire, and abandon ship.” The excerpt is on p. 102 at https://homeport.uscg.mil/mycg/portal/ep/contentView.do?channelId=-18374&contentId=323899&programId=21431&programPage=%2Fep%2Fprogram%2Feditorial.jsp&pageTypeId=13489&contentType=EDITORIAL&BV_SessionID=@@@@1768583495.1392047223@@@@&BV_EngineID=ccccadfmfdfjmemcfngcfkmdfhfdfgo.0 OR you can locate the report at Http://Homeport.uscg.mil >Missions >Investigations >Marine Casualty Reports >DEEPWATER HORIZON—FINAL REPORT.

On the day of the incident, the DEEPWATER HORIZON was drilling a well that was 13,000 feet deep in approximately 5,000 feet of water. A total of about 126 people, including the maritime crew and persons other than crew were on board. There were 115 people aboard who successfully evacuated and survived. However, 11 people were missing and presumed dead, and 16 were injured.

Further evidence shows the risk of hazardous incidents on mobile offshore units (MOUs). (For the purposes of this ANPRM, an MOU means a vessel that can be readily relocated, and is capable of performing an industrial function that involves offshore operations other than those traditionally provided by vessels covered by chapter I of the International Convention for the Safety of Life at Sea, 1974 (SOLAS).) ³ In November 2012, the FLOATEL SUPERIOR evacuated 374 people due to a damaged ballast tank. Damage was slight and allowed time for people mustered at the lifeboat stations to be successfully evacuated by helicopter. A more pressing and dangerous scenario could have led to different, less favorable results.

³ See International Maritime Organization (IMO) Resolution A.891(21), Recommendations on Training of Personnel on Mobile Offshore Units (MOUs), (adopted November 25, 1999), February 4, 2000.

Current Coast Guard regulations require, at a minimum, the International Convention on Standards of Training, Certification and Watchkeeping for Seafarers, 1978, as amended (STCW) basic safety training for maritime crew working on the OCS. (See Section III. E. Offshore Supply Vessels for STCW basic safety training requirements.)

With this rulemaking, our goal is to enhance personnel preparedness for persons other than crew (U.S. and foreign) when responding to emergencies such as fire, personal injury, and abandon ship situations in hazardous environments. Additionally, we seek to ensure that persons other than crew receive basic maritime safety training on offshore supply vessels (OSVs) and MOUs engaged in OCS activities,⁴ regardless of flag, consistent with the International Maritime Organization's (IMO) recommendations for maritime safety training (see Section IV. Advance Notice of Proposed Rulemaking Discussion). Further, we seek to ensure that this training is standardized and transferrable from one vessel type to another to avoid duplication of effort.

⁴ An OCS activity means any offshore activity associated with exploration for, or development or production of, the minerals of the Outer Continental Shelf (33 CFR 140.10).

B. Outer Continental Shelf Lands Act

Under the Outer Continental Shelf Lands Act (OCSLA) (43 U.S.C. 1331-1356a), the Coast Guard is responsible for developing and implementing regulations to protect the safety of life, property, and the environment on OCS installations, vessels, and units engaged in OCS activities, including the regulation of workplace safety and health.⁵ Chapter I, subchapter N of Title 33 of the Code of Federal Regulations (CFR) contains regulations pertaining to OCS facilities, vessels, and other units engaged in OCS activities, which are intended to promote workplace safety and health.

⁵ See 43 U.S.C. 1347(c).

C. Coast Guard's Relationship to the Bureau of Safety and Environmental Enforcement

The Department of the Interior's Bureau of Safety and Environmental Enforcement (BSEE) has authority under OCSLA ⁶ to regulate oil, gas, and sulphur exploration, development, and production operations on the OCS. The Coast Guard closely coordinates with the BSEE on shared jurisdiction and coordination of activities related to OCS facilities and units in order to minimize duplication of effort and to aid both agencies in the successful completion of their assigned missions and responsibilities. The Coast Guard and the BSEE use a Memorandum of Understanding and Memoranda of Agreement to coordinate consistency of regulations and policies where shared responsibilities exist and to provide each other relevant information for review and comment throughout the regulatory and policy development process.⁷

⁶ See 43 U.S.C. 1334.

⁷ BSEE-USCG Memorandum of Understanding and Memoranda of Agreements are publicly available (at http://www.bsee.gov/BSEE-Newsroom/Publications-Library/Interagency-Agreements/).

D. The BSEE's Safety Regulations

The BSEE requires all OCS lessees or their designated operators to develop, implement, and maintain a Safety and Environmental Management System (SEMS) program (see 30 CFR 250, subpart S). The SEMS program is intended to be a nontraditional, performance-focused tool for integrating and managing offshore operations. The goal of the SEMS program ⁸ is to “promote safety and environmental protection by ensuring all personnel on a facility” comply with the policies and procedures in the SEMS plan. The BSEE describes the scope of its jurisdiction by using the term “facility,” which encompasses MODUs, installations, and devices that are permanently or temporarily attached to the seabed.⁹ The SEMS regulations require that the SEMS program establish and implement a training program so that all personnel are trained in accordance with their duties and responsibilities to work safely and are aware of potential environmental impacts.¹⁰ The SEMS regulations also require that all personnel be trained to competently perform their assigned well control, deepwater well control, and production safety duties.¹¹ The SEMS regulations also address operating procedures, safe work practices, and emergency response and control measures.¹²

⁸ See 30 CFR 250.1901.

⁹ See 30 CFR 250.105.

¹⁰ See 30 CFR 250.1915.

¹¹ See 30 CFR part 250.

¹² See 30 CFR 250.1915.

Both the BSEE and the Coast Guard have authority to regulate MODUs. The agencies entered into a Memorandum of Agreement (BSEE/USCG MOA: OCS-08, effective on June 4, 2013) to identify each agency's responsibility for regulation, inspection, and oversight of systems and sub-systems on MODUs.¹³ Annex 1 of the MOA designates the Coast Guard as the lead agency for regulatory oversight in certain areas. The areas applicable to this ANPRM are: 10.a through e (Fire Protection); 15.a and b (Pollution Prevention); 18 (Life Saving Equipment); 22.g (Drills-fire, abandon, and lifeboat); and 22.k (Inspection and testing of marine and lifesaving equipment). The Coast Guard's consideration of maritime safety training requirements are in the areas of familiarization, personal survival, fire prevention and fire fighting, elementary first aid, and personal safety and social responsibilities. Since the BSEE SEMS requirements do not apply to these areas, there will be no duplication between the maritime safety training requirements we are considering in this ANPRM and the BSEE SEMS regulations. There will also be no duplication of requirements with regards to OSVs because the BSEE does not have jurisdiction to regulate personnel working on this type of vessel.

¹³ See footnote 7 for availability of the BSEE/USCG MOU and MOAs.

E. Offshore Supply Vessels

Offshore supply vessels serve a variety of functions in support of the exploration, exploitation, or production of offshore mineral or energy resources, which may include carrying offshore goods and supplies; handling anchors and mooring equipment; or delivering excess fuel to oil production facilities. They also perform other support functions such as serving as floating hotels/accommodation service vessels (FLOATELs/ASVs) that provide sleeping, dining, and recreational quarters for persons other than crew who must remain close to a drilling or mineral production unit and for whom quarters are not available on the drilling or production unit.

Developments in the U.S. offshore industry created demand for larger OSVs than allowed in the past. As previously pointed out, the U.S. offshore industry became more complex over time. Consequently, there is greater demand for larger, multi-purpose OSVs that are capable of: (1) Operating at greater distances from shore and for more extended periods using larger and more advanced propulsion or machinery systems; (2) carrying more cargo and more people on board; and (3) serving as a platform for specialized services related to the exploration, exploitation, and completion of sub-sea resources. Until recently, however, a statute limited the size of OSVs to less than 500 gross register tons as measured under 46 U.S.C. 14502, or to an alternate tonnage established as 6,000 gross tonnage as measured under 46 U.S.C. 14302. In response, Congress removed the size limit on OSVs in 2010 (see Pub. L. 111-281, section 617(a)). Modifications to existing OSV regulations to safely increase the size of OSVs are being developed to address hazards associated with larger vessels carrying more cargo and personnel, including regulations pertaining to mariner training.¹⁴

¹⁴ Additional regulatory changes to address safety concerns of larger OSVs are being developed by the Coast Guard under a separate rulemaking (see RIN 1625-AB62 at www.reginfo.gov).

Existing regulations require maritime crew operating on U.S.-flagged OSVs to be credentialed and comply with the STCW's basic safety training as required in 46 CFR parts 11 and 12. This training includes: (1) Personal survival techniques, (2) fire prevention and firefighting, (3) elementary first aid, and (4) personal safety and social responsibilities, as set out in section A-VI/1 of the STCW Code.¹⁵ Maritime crew on foreign-flagged OSVs are credentialed under the laws of the flag state and also receive basic safety training in accordance with the STCW.

¹⁵ See International Convention on Standards of Training, Certification and Watchkeeping for Seafarers, 1978, as amended.

Coast Guard regulations require safety orientation for offshore workers on board U.S.-flagged OSVs as found in 46 CFR 131.320. These requirements were originally intended for offshore workers in transit from a shore-based staging area to the OSV. However, the role of the OSV has expanded to serve as a base of operations for other offshore activities, such as diving, ROV operations and seismic surveys. Persons other than crew involved in these operations work and live aboard these vessels during the entire activity and are not transient workers, as the current regulations were designed to protect. Section 131.320 currently requires that the Master inform persons other than crew of certain basic safety information including, but not limited to, emergency and evacuation procedures; locations of emergency exits; embarkation areas for survival craft; and storage areas for lifejackets and immersion suits, along with instructions on how to don and adjust the jackets and suits. Such safety orientation must also include information on the types and locations of any other lifesaving device(s) carried on the vessel, the location and contents of safety placards, as well as any conditions or circumstances that constitute a risk to safety. This training is not equivalent to the STCW's basic safety training requirements; therefore, we seek to broaden maritime safety training requirements for transient offshore workers as well as for persons other than crew working on U.S. OSVs engaged in activities on the OCS. We are also considering making these requirements applicable to all persons other than crew working on foreign-flagged OSVs engaged in activities on the OCS. Our goal is to enhance personnel preparedness for responding to emergencies such as fire, personal injury, and abandon ship situations in hazardous environments, regardless of flag.

F. Mobile Offshore Drilling Units

MODUs are a particular type of MOU. Some MODUs are self-propelled and certified to navigate independently, while others rely on arrangements of intricate anchoring systems for the purpose of holding the unit on station. Maritime crew and persons other than crew typically work in 12-hour shifts in very physically demanding and especially dangerous conditions. Drilling operations can be extremely complex and can expose these workers to a potentially combustible and hazardous atmosphere because of the presence of oil, gas, drilling mud, and cement. Given such prevalent conditions, it is critical that all maritime crew and persons other than crew receive adequate maritime safety training.

Regulations for the credentialing and required STCW basic safety training of maritime crew are in 46 CFR parts 11 and 12. The Coast Guard issues officer endorsements for three categories of industrial officers who work on U.S.-flagged MODUs. These are the offshore installation manager (OIM), barge supervisor (BS), and ballast control operator (BCO).¹⁶ Regulations for training and sea service requirements for the OIM, BS, and BCO are found in 46 CFR 11.470, 11.472, and 11.474, respectively. Depending on the type of unit the three categories of industrial officers are working on these officers may also hold a maritime credential as a Master or Chief Mate, which would subject them to compliance with the STCW basic safety training requirements. Coast Guard regulations contained in §§ 11.470, 11.472, and 11.474 require some safety-related training courses for these three categories of industrial officers, which include well control/blowout prevention for the OIM, as well as survival suits/survival craft, and firefighting training for all three categories of industrial officers. However, the training in §§ 11.470, 11.472, and 11.474 is not equivalent to the STCW's basic safety training requirements for maritime crew.

¹⁶ OIM, BS, and BCO are defined in 46 CFR 10.107(b).

The Coast Guard's regulations for the safety orientation of maritime crew and industrial workers working aboard U.S.-flagged MODUs are in 46 CFR 109.213. (“Industrial workers” are considered persons other than crew in this ANPRM.) These regulations require emergency training and drills. Training manuals or audiovisual media that describe abandonment of the unit must be available to all maritime crew and industrial workers on board. Each maritime crew and industrial worker on board must also be assigned and become familiar with his/her emergency duties before working on the unit. Drills and instructions must be conducted for abandonment, fire, and line-throwing apparatus. Additional training under 46 CFR 109.213 on survival skills is required for “persons with designated responsibility for the survival of others” beyond what is required for “persons without designated responsibility for the survival of others.”

The STCW's basic safety training regulations do not apply to industrial officers without maritime credentials. These same regulations also do not apply to industrial workers. The safety-related training requirements in 46 CFR 11.470, 11.472, and 11.474 and 109.13 are not equivalent to the STCW basic safety training; therefore, we seek to expand maritime safety training for industrial officers and industrial workers working on U.S. MODUs. We are also considering making these requirements applicable to all persons other than crew working on foreign-flagged MODUs. Our goal is to enhance personnel preparedness for responding to emergencies such as fire, personal injury, and abandon ship situations in hazardous environments, regardless of flag.

G. Manning

The cognizant Officer in Charge, Marine Inspection sets the manning requirements for the maritime crew on a specific MODU in accordance with 46 CFR 15.520, or on an OSV based on the regulations in 46 CFR 15.705. Before issuing a safe manning document in the form of a Certificate of Inspection, the Officer in Charge, Marine Inspection usually consults with the vessel's owner/operator, applies headquarters' policy as well the district's policy, if any, and he or she takes into consideration the purpose of the vessel and its mode and area of operation.

IV. Advance Notice of Proposed Rulemaking Discussion

A. Maritime Safety Training for Persons Other Than Crew on Offshore Supply Vessels and Mobile Offshore Units

New regulatory standards and amendments to existing requirements on maritime safety training for persons other than crew are needed to ensure consistency in safety, efficiency, and environmentally conscious practices. Once finalized, the maritime safety training regulations would produce a standard that would be applicable to persons other than crew on all OSVs and MOUs engaged in OCS activities, regardless of flag.

The Coast Guard reviewed IMO Resolution A.891(21), titled “Recommendations on Training of Personnel on Mobile Offshore Units (MOUs),” which provides an international standard for maritime safety training on MOUs. We considered certain provisions of this resolution as a source in guiding our preliminary thoughts regarding potential regulations for maritime safety training standards, and we seek comments on them. We developed a table that adopts certain provisions from the resolution using categories based on personnel type, and the recommended type of maritime safety training courses and/or programs. Levels of training are commensurate with the duties and responsibilities borne by each individual as noted in Table 1. The table categories are: (A) Visitors and persons other than crew who are not regularly assigned, but are on board for a limited time and have no tasks in relation to normal operations of the unit; (B) persons other than crew without designated responsibility for the safety and survival of others; (C) regularly assigned persons other than crew with designated responsibility for the safety and survival of others; and (D) maritime crew.

The Coast Guard particularly seeks industry comment on the need for additional maritime safety training, such as crowd management, crisis management and human behavior, specialized on-the-job training, or structured courses and/or programs that might be necessary, but are not otherwise mentioned in this ANPRM.

B. Safety Organizational Structure

In order to ensure that any subsequent proposed rule includes appropriate requirements, a key purpose of this ANPRM is to encourage comments that will identify the safety organizational structure of MOUs. A safety organizational structure includes the responsibilities, authorities, and relationships through which the MOU performs its activities. The organizational structure may be an integral part of a company's management system. Because of the differences between companies, the Coast Guard encourages commenters to describe the responsibilities of individuals with regard to safety matters, as well as the communication mechanisms that (1) promote cooperation between the maritime crew and persons other than crew, (2) ensure a successful response to any emergency on board MOUs, and (3) ensure that people in the relevant capacities are available to perform their safety responsibilities.

The Coast Guard seeks information on the particular protocol for designating a unit's OIM and for assigning overall final decision-making and well control authority in case of a maritime emergency, such as a blowout, explosion, fire, or unit abandonment. The Coast Guard is especially looking for examples of how companies operating self-propelled MODUs define the levels of authority and lines of communication within the unit (e.g., Master and OIM) and between shoreside and unit personnel.

We seek information on how safety and industrial operations are currently practiced, the order of precedence given to organizational responsibilities, and the measures taken to maintain the safety of the unit and personnel. We would like to determine whether the Master working on a self-propelled unit, including a MODU, is responsible and in charge, without constraints by the unit owner or operator, of the response to an emergency. We also seek to determine whether the OIM or an equivalent industrial officer working on a non-self-propelled unit, including a MODU, is responsible for the unit without constraints by the unit owner or operator on the response to an emergency. Further, the Coast Guard seeks information on any potential conflicts that may exist between the Master and the OIM, as well as conflicts between any other organizational structural positions onboard the unit or on shore.

C. Officers on Mobile Offshore Drilling Units

The Coast Guard requests that commenters identify the duties and responsibilities of the OIM, the BS, and the BCO, including their responsibilities during emergency situations. We are asking for comment on the sufficiency of these industrial officers' endorsement requirements and the possible need to adjust the training and service provisions.

We also seek information on any current method or program for training a person holding an unlimited Master's endorsement to prepare them to obtain an OIM endorsement. This includes suggestions on academic degrees, in addition to engineering degrees and sea service requirements, or other creditable experience in lieu of those expressly stated in 46 CFR 11.470. We welcome suggestions regarding the application of credit toward the OIM requirements for any training courses or programs received while obtaining a Master's endorsement (e.g., firefighting, stability, and survival suit training) and ask for data on the number of OIMs currently holding a Master's endorsement.

The subjects that will appear on an examination for obtaining a U.S. credential with OIM, BS, and BCO MODU endorsements are specified in 46 CFR 11.920. Similarly, the Coast Guard requests comments about whether these subjects are still relevant and if any should be deleted from, or added to this section of the regulations.

D. Manning

Emerging technology and the expanded practice of using MOUs and OSVs as multipurpose units and vessels point to the possible need to re-assess the Coast Guard's manning principles. As MODUs become increasingly larger in design and operations and are navigated in deeper waters farther from shore, the Coast Guard is concerned about whether there should be additional engineers and mates assigned to these vessels. Also, we ask several open-ended questions in the section that follows in this ANPRM to give individuals in industry a chance to offer their specific views on any manning issue. The Coast Guard seeks comments regarding how current regulations serve industry and if there are any suggestions or concerns with current manning standards, whether they are related to the normal service or particular to the multiple uses of these units or vessels. We also ask several MODU-specific questions regarding certain industrial officers and one question regarding ice pilots.

V. Information Requested

The Coast Guard seeks comment from the public on a variety of OSV and MOU standards.

We have organized the discussion into the following five sections: A. Maritime Safety Training for Persons Other than Crew on Offshore Supply Vessels and Mobile Offshore Units; B. Safety Organizational Structure; C. Officers on Mobile Offshore Drilling Units; D. Manning; E. Economic Data; and F. Regulatory Coordination with Other Federal Agencies. Public responses to these questions will help the Coast Guard develop a more complete and carefully drafted rulemaking. Please support your comment with quantitative data where possible, and include sources and complete citations for any data. The questions are neither all-inclusive, nor are responses to all questions necessary. Any supplemental information regarding the topics that follow is welcome. As you respond to a question, PLEASE INDICATE THE SPECIFIC NUMBER OF THE QUESTION YOU ARE ADDRESSING.

A. Maritime Safety Training for Persons Other Than Crew on Offshore Supply Vessels and Mobile Offshore Units

Information in Table 1 was extrapolated from the recommended training in IMO Resolution A.891(21). (For a full description of the table, see section IV.A. of this ANPRM.) We request comments on the levels of training for three categories of personnel (A, B, and C) ¹⁷ listed in the table. Please indicate the specific number of the question you are addressing.

¹⁷ Category D—we are not seeking information for this category because existing Coast Guard regulations contain training requirements for maritime crew.

Table 1—Maritime Safety Training for Persons Other Than Crew on the U.S. OCS*
Type of worker: Category A | Type of worker: Category B | Type of worker: Category C | Type of worker: Category D
Visitors and persons other than crew not regularly assigned who are on board for a limited period of time, in general not exceeding 3 days, and have no tasks in relation to normal operations of the unit | Other persons other than crew without designated responsibility for the safety and survival of others | Regularly assigned persons other than crew with designated responsibility for the safety and survival of others | Maritime crew members.
Training
Training in offshore orientation; familiarization training or sufficient information and instruction in personal survival techniques and workplace safety | Training in offshore orientation; familiarization training or sufficient information and instruction in personal survival techniques and workplace safety | Training in offshore orientation; familiarization training or sufficient information and instruction in personal survival techniques and workplace safety | Training in offshore orientation; familiarization training or sufficient information and instruction in personal survival techniques and workplace safety.
| Training in personal survival, fire prevention and fire-fighting, elementary first aid, personal safety and social responsibilities (as set out in tables 5.3.1 to 5.3.5, basic training (BT) of Resolution A.891) | Training in personal survival, fire prevention and fire-fighting, elementary first aid, personal safety and social responsibilities (as set out in tables 5.3.1 to 5.3.5, BT of Resolution A.891) | Training in personal survival, fire prevention and fire-fighting, elementary first aid, personal safety and social responsibilities (BT in accordance with STCW Regulation VI/1).
|  | Additional training in accordance with their duties and responsibilities—STCW training in survival craft and rescue boats, fast rescue boats, adv. fire-fighting, and medical first aid. [Person in charge (PIC) medical care, if assigned] | Additional training in accordance with their duties and responsibilities—STCW training in survival craft and rescue boats, fast rescue boats, adv. fire-fighting, and medical first aid [PIC medical care; if assigned].
|  | Familiarization training on unit-specific equipment | Familiarization training on unit-specific equipment.
* Note: This table is based on information found in IMO Resolution A.891(21).

Q-A1. What kind of maritime safety training courses and/or programs are currently afforded to persons other than crew on board MOUs and OSVs? Is Table 1 (adapted from information in IMO Resolution A.891(21)) a good representation of the levels of training appropriate for the categories of persons other than crew listed?

Q-A2. What suggestions do you have regarding the inclusion or modification of the personnel categories and relevant maritime safety training in the table?

Q-A3. Should any key maritime crew or persons other than crew on board be required to take crowd management training, and crisis management and human behavior training courses (similar to maritime crew and persons other than crew on passenger vessels)? For what size complement? For what type of vessel? How do existing FLOATELs/ASVs ensure the safety of large numbers of embarked persons other than crew in case of emergency?

Q-A4. Is there any specialized safety training that should be required on OSVs that is particular to the various functions these vessels can perform?

Q-A5. Have any incidents occurred involving individuals who had not received safety training? If so, please describe the incident. Would the outcome have changed had those individuals received safety training? Why were they not trained?

Q-A6. What types of safety drills should be required of every person on an MOU?

B. Safety Organizational Structure

The Coast Guard seeks to understand and requests information on a unit's organizational structure as it pertains to safety, including the levels of authority and lines of communication by which operations are carried out, and the duties and responsibilities of the three categories of industrial officers who are issued credentials by the Coast Guard and direct the industrial work on board a MODU.

Please provide information on the performance of drilling operation emergency exercises and how these drills are performed safely, including the number of offshore workers involved, the length and frequency of the drills, the equipment needed and resources required.

Also, the Coast Guard seeks information on the responsibilities of persons other than crew on board OSVs serving as FLOATELs/ASVs with regard to safety matters, and the communication mechanisms that promote cooperation on board the vessel to ensure that people in the relevant capacities are available to perform their safety responsibilities. Please indicate the specific number of the question you are addressing.

Q-B1. Who has the ultimate and final decision-making authority on board a MODU or other MOU for industrial operations, marine operations, and emergency response? If there is more than one person, how and when is the decision-making authority transferred during an emergency? How is this decision-making defined by unit type and operational status? Is this practiced, and if so, how often and what resources are required?

Q-B2. Who on board a MODU is responsible for well control and would be the primary person to give the order to shut-in the well?

Q-B3. Where is well control delegation found in a MODU's company documentation?

Q-B4. How do companies operating self-propelled MOUs define the levels of authority and the lines of communication both within the unit, and between shoreside and unit personnel?

Q-B5. Should drilling operation/well control emergency drills and vessel emergency evacuation drills on a MODU be performed and, if so, what drills can be performed safely? What resources are required for such drills?

Q-B6. What are the responsibilities of the maritime crew toward persons other than crew on board MOUs in case of an emergency?

Q-B7. What are the responsibilities of persons other than crew on MOUs in case of an emergency?

C. Officers on Mobile Offshore Drilling Units

The Coast Guard seeks comments on the existing professional education and service requirements of the OIM, the BS, and the BCO.

Additionally, we seek comments on the possible need to create new MODU-specific endorsements for “Master (MODU)” and “Chief mate (MODU)” as well as the associated education, training, and knowledge that industry feels is necessary. Please indicate the specific number of the question you are addressing.

Q-C1. What are the duties and responsibilities of an OIM?

Q-C2. What are the duties and responsibilities of a BS?

Q-C3. What are the duties and responsibilities of a BCO?

Q-C4. Is the current structure of officer endorsement (licensing) for MODUs still valid and does it cover the current and anticipated future needs of the offshore drilling/production industry?

Q-C5. Should the Coast Guard consider issuing a Master (MODU)-specific endorsement? Is there need for a “Chief mate (MODU)” or “Mate (MODU)” endorsement?

Q-C6. Referring to Q-C5, if the answer is yes, what practical/theoretical knowledge requirements should be needed for each endorsement (leading to the development of a possible course and/or program)?

Q-C7. Referring to Q-C5, what should be the service requirements for each endorsement?

Q-C8. Would a Master or Mate (unrestricted) necessarily have to start over to comply with all the requirements of 46 CFR 11.470, 11.472, and 11.474, or would you recommend alternative training courses and/or programs and experience criteria?

Q-C9. What are your suggestions regarding the acceptance of equivalencies of the education (degree), and individual course and/or program requirements for:

(a) An OIM (who holds an unlimited Master's officer endorsement); and

(b) A BS/BCO (who holds an unlimited Chief mate's officer endorsement)?

Q-C10. On a self-propelled U.S.-flagged MODU (other than a drillship), is the Master with an OIM endorsement, required by 46 CFR 15.520(d), actually filling the position of the OIM or is another person brought on board and assigned to serve as the OIM?

Q-C11. Within your company, how many OIMs currently hold a Master's endorsement?

Q-C12. Is there a need for additional or alternative Coast Guard credentialed positions aboard MODUs including, but not limited to, crane operator, remotely operated vehicle operator, or maintenance supervisor?

D. Manning

The Coast Guard seeks comments regarding how current regulations serve industry and if there are any suggestions or concerns with current manning standards, whether they are related to the normal service or particular to the multiple uses of these units or vessels. We also ask several MODU-specific questions regarding certain industrial officers and one question to elicit information on ice pilots. Please indicate the specific number of the question you are addressing.

Q-D1. Should the Coast Guard require a Chief engineer aboard a MODU? If so, how many assistant engineers should we require and what would be the associated costs and benefits?

Q-D2. Should the Coast Guard require a Chief mate aboard a MODU? If so, how many additional mates should we require and what would be the associated costs and benefits?

Q-D3. Are there any other manning issues regarding both self-propelled and non-self-propelled MOUs that industry recommends the Coast Guard address?

Q-D4. Are there any manning issues regarding OSVs that industry recommends the Coast Guard address?

Q-D5. Do you know if any U.S. licensed maritime crew has ice pilot experience as a navigator in arctic waters, and if so, how many? (Specifically, the U.S. licensed maritime crew's experience would include monitoring and formulating strategies to guard against ice floes.)

E. Economic Data

Finally, the Coast Guard seeks any available economic data regarding maritime crew and persons other than crew working on MOUs and OSVs engaged in OCS activities on the OCS. We seek information on the current labor market trends and conditions; current maritime safety training courses the maritime crew are required to complete; and the costs, benefits, and effectiveness of those training courses and/or programs. Please indicate the specific number of the question you are addressing.

Q-E1. What data or information exists that the Coast Guard could use to estimate the number of U.S. maritime crew and U.S. persons other than crew per U.S. flagged MOU and OSV, and the average number of maritime crew and persons other than crew per foreign-flagged MOU and OSV? Similarly, are there any sources documenting the number of MOUs (both U.S. and foreign-flagged) by unit types (e.g., accommodation units, crane units, construction and maintenance units, drilling tenders, pipe and cable laying units, wind turbine installation units, and maintenance and repair units)?

Q-E2. What are the current labor market trends and conditions for U.S. and non-U.S. maritime crew and persons other than crew working on MOUs and OSVs? Specifically, are there any current or projected shortages of qualified maritime crew and persons other than crew on MOUs and OSVs? Also, are current wages and total compensation for the maritime crew and persons other than crew working on MOUs and OSVs competitive with the rest of the oil, gas, and marine industries?

Q-E3. Do you provide training similar to that described in Table 1? What are the costs associated with current training courses and/or program requirements for U.S. and non-U.S. maritime crew as well as U.S. and non-U.S. persons other than crew working on MOUs and OSVs? How long does this training take? Also, is there any data or information that could be used to estimate the costs of these maritime safety training courses and/or programs? Is it conducted on board by maritime crew or by outside resources? Who pays for the maritime safety training courses and/or programs—the maritime crew/persons other than crew, or his/her employer? How many maritime crew/persons other than crew are trained per year? What is the cost of training? Please list your answers in Table 2. (When answering the question, refer to Table 1-Maritime Safety Training for Persons Other than Crew on the U.S. OCS.)

Table 2—Costs Associated With Current Training Courses/Programs
| Category A | Category B | Category C
Do you provide training similar to that described in Table 1? |  |  |
What are the costs associated with current training courses and/or program requirements for U.S. and non-U.S. maritime crew and U.S. and non-U.S. persons other than crew working on MOUs and OSVs? |  |  |
How long does this training take? |  |  |
Also, is there any data or information that could be used to estimate the costs of these maritime safety training courses and/or programs? |  |  |
Is it conducted on board by maritime crew or by outside resources? |  |  |
Who pays for the maritime safety training courses and/or programs—the maritime crew/persons other than crew, or his/her employer? |  |  |
How many maritime crew/persons other than crew are trained per year? |  |  |
What is the cost of the training? |  |  |

Q-E4. What are the kinds of beneficial impacts from safety training? Are there sources of data or information documenting the benefits or avoided costs, which may result from the maritime safety training courses and/or programs that are currently required of the maritime crew and persons other than crew who work on MOUs and OSVs?

Q-E5. How effective are these maritime safety training courses and/or program requirements in terms of reducing fatalities, injuries, and property damage on MOUs and OSVs? Please provide examples of situations in which safety training may have been effective in mitigating the impacts of emergency situations.

F. Regulatory Coordination With Other Federal Agencies

The Coast Guard is also interested in ways to streamline safety training for persons other than crew on OSVs and MOUs with the requirements of other Federal agencies. We are seeking comment on specific aspects where there may be opportunities to improve coordination.

Q-F1. What opportunities exist for increased regulatory efficiency and harmonization of maritime safety training requirements among Federal agencies?

Dated: April 6, 2014.
Robert J. Papp Jr.,
Commandant, U.S. Coast Guard.

[FR Doc. 2014-08359 Filed 4-11-14; 8:45 am]

BILLING CODE 9110-04-P